LIBRARY OF CONGRESS

Copyright Royalty Board

37 CFR Part 351

[Docket No. 15-CRB-0012 RM]

Proceedings of the Copyright Royalty Board; Technical Amendment

AGENCY: Copyright Royalty Board, Library of Congress.

ACTION: Final rule; technical amendment.

SUMMARY: The Copyright Royalty Judges are adopting a technical amendment to a Copyright Royalty Board rule regarding participation in distribution proceedings. The technical amendment updates the threshold requirement for payment of a filing fee to conform the rule to a statutory provision.

DATES: Effective February 22, 2016.

FOR FURTHER INFORMATION CONTACT: LaKeshia Keys (202) 707-7658 or email at crb@loc.gov.

SUPPLEMENTARY INFORMATION: On October 6, 2006, Congress enacted the Copyright Royalty Judges Program Technical Corrections Act. Public Law 109-303, 120 Stat. 1478 (2006). Among other things, the Technical Corrections Act changed Section 803(b)(2)(D)(ii)(II) of the Copyright Act, which requires parties that wish to participate in a Copyright Royalty Board royalty distribution proceeding to pay a $150 filing fee unless the petitioner includes a statement with its petition to participate stating that the petitioner will not seek a distribution of more than $1000, in which case no filing fee is required. Prior to the Technical Corrections Act, the threshold for a fee waiver in a distribution proceeding was $10,000, an amount that was (and still is) codified in CRB Rule 351.1(b)(4).¹

¹ 37 CFR 351.1(b)(4); 70 FR 30901, 30903 (May 31, 2005).

To conform the CRB regulation with the statutory provision under which it was adopted, the Judges hereby amend CRB Rule 351.1(b)(4) to state that the threshold requirement for a filing fee waiver is $1000, rather than $10,000. Because this is a technical amendment, the Judges find that prior publication for notice and comment is unnecessary. See 5 U.S.C. 553(b)(3)(B). See also 61 FR 63715 (Dec. 2, 1996) (adopting technical amendments to CARP rules).

List of Subjects in 37 CFR Part 351

Administrative practice and procedure, Copyright.

For the reasons set forth in the preamble, the Copyright Royalty Judges amend 37 CFR part 351 as follows:

PART 351—PROCEEDINGS

1. The authority citation for part 351 continues to read as follows:

Authority: 17 U.S.C. 803.

2. Amend § 351.1 to revise paragraph (b)(4) to read as follows:

§ 351.1 Initiation of proceedings.

* * * * *

(b) * * *

(4) Filing fee. A petition to participate must be accompanied with a filing fee of $150 or the petition will be rejected. Payment shall be made to the Copyright Royalty Board. If a check is subsequently dishonored, the petition will be rejected. If the petitioner believes that the contested amount of that petitioner's claim will be $1000 or less, petitioner shall so state in the petition to participate and should not include payment of the $150 filing fee. If it becomes apparent during the course of the proceedings that the contested amount of the claim is more than $1000, the Copyright Royalty Judges will require payment of the filing fee at such time.

* * * * *

Dated: December 30, 2015.
Suzanne M. Barnett,
Chief Copyright Royalty Judge.
Approved by:
David S. Mao,
Acting Librarian of Congress.

[FR Doc. 2016-03599 Filed 2-19-16; 8:45 am]

BILLING CODE 1410-72-P